DEPARTMENT OF THE INTERIOR

Bureau of Land Management

[21X.LLAZ921000.L14400000.BJ0000. LXSSA2250000.241A]

Notice of Filing of Plats of Survey; Arizona

AGENCY: Bureau of Land Management, Interior.

ACTION: Notice of official filing.

SUMMARY: The plats of survey of the following described lands are scheduled to be officially filed 30 days after the date of this publication in the Bureau of Land Management (BLM), Arizona State Office, Phoenix, Arizona. The surveys announced in this notice are necessary for the management of lands administered by the agency indicated.

ADDRESSES: These plats will be available for inspection in the Arizona State Office, Bureau of Land Management, One North Central Avenue, Suite 800, Phoenix, Arizona 85004-4427. Protests of any of these surveys should be sent to the Arizona State Director at the above address.

FOR FURTHER INFORMATION CONTACT: Mark D. Morberg, Chief Cadastral Surveyor of Arizona; (602) 417-9558; mmorberg@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing the dependent resurvey of a portion of the north boundary, the `Katherine' lode of Mineral Survey No. 4438 and the northeasterly boundaries of the `Oak Tree No. 1' and `Oak Tree No. 2' lodes of Mineral Survey No. 4508 and a metes-and-bounds survey in section 1, partially surveyed Township 10 South, Range 15 East, accepted February 9, 2021, for Group 1195, Arizona.

This plat was prepared at the request of the United States Forest Service.

The plat, in one sheet, representing the dependent resurvey of a portion of the subdivisional lines, and two metes-and-bounds surveys in sections 8 and 9, partially surveyed Township 10 South, Range 16 East, accepted February 9, 2021, for Group 1195, Arizona.

This plat was prepared at the request of the United States Forest Service.

The plat, in one sheet, showing the amended lotting in section 34, Township 13 North, Range 2 West, accepted February 9, 2021, for Supplemental Group 9112, Arizona.

This plat was prepared at the request of the United States Forest Service.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Mark D. Morberg,
Chief Cadastral Surveyor of Arizona.

[FR Doc. 2021-06109 Filed 3-24-21; 8:45 am]

BILLING CODE 4310-32-P